DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from May 4, to May 8, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: June 11, 2009.
J. Paul Loether,
Chief, National Register of Historic Places/National Historic Landmarks Program.

KEY: State, County Property Name, Address/Boundary, City, Vicinity, Reference Number, Action, Date, Multiple Name

CALIFORNIA

Los Angeles County

Neutra, Richard and Dion, VDL Research House II, 2300 Silver Lake Blvd., Los Angeles, 03000774, LISTED, 5/08/09

COLORADO

San Miguel County

Lewis Mill, 3.5 mi. SE of Telluride at the head of Bridal Veil Basin, Telluride vicinity, 09000267, LISTED, 5/06/09 (Mining Industry in Colorado, MPS)

GEORGIA

Dawson County

Gilleland, Boyd and Sallie, House, 3 Shepard's Ln., Dawsonville, 09000268, LISTED, 5/06/09

Fulton County

Ellis, Rutherford and Martha, House, 543 W. Wesley Rd., NW., Atlanta, 09000269, LISTED, 5/06/09

Rockdale County

Parker, Aaron and Margaret, Jr., House, 4835 Flat Bridge Rd., SW., Stockbridge vicinity, 09000271, LISTED, 5/06/09

IDAHO

Blaine County

Chase, Eben S. and Elizabeth S., House, 203 E. Bullion St., Hailey, 09000292, LISTED, 5/05/09

Latah County

Snow, Arthur, House, 2949 Clyde Rd., Moscow, 09000294, LISTED, 5/05/09

IOWA

Polk County

Clemens Automobile Company Building, 200 10th St., Des Moines, 09000272, LISTED, 5/06/09

Polk County

National Biscuit Company Building, 1001 Cherry St., Des Moines, 09000273, LISTED, 5/06/09

KANSAS

Leavenworth County

Leavenworth Terminal Railway & Bridge Company Freight Depot, 306 S. 7th St., Leavenworth, 09000274, LISTED, 5/06/09 (Railroad Resources of Kansas MPS)

Marion County

Florence Water Tower, 525 W. 5th St., E. of US 77 at jct. US 50 & 77, Florence, 09000275, LISTED, 5/06/09

Sedgwick County

Wilkie, Grace, House, 4230 E. English St., Wichita, 09000278, LISTED, 5/06/09

MASSACHUSETTS

Essex County

Blakeley Building, 475-479 Essex St., Lawrence, 09000299, LISTED, 5/04/09

Essex County

North Canal Historic District (Boundary Increase), Roughly bounded by the Merrimack and Spicket rivers, North Canal, and Broadway, Lawrence, 09000280, LISTED, 5/08/09

MISSOURI

St. Louis Independent City

Gill, William A., Building, 622 Olive St., St. Louis, 09000282, LISTED, 5/08/09

NEW YORK

Niagara County

House at 8 Berkley Drive, 8 Berkley Dr., Lockport, 09000287, LISTED, 5/04/09

Suffolk County

Cauldwell, William, House, 51 Peconic Ave., Noyac, 09000305, LISTED, 5/04/09

NORTH CAROLINA

Cleveland County

Margrace Mill Village Historic District, 101-117, 102-120 Cloninger St., 101-113, 102-116, 200 Fulton Dr., 145 Ark St., 101-107, 102-114 Water Oak St., Kings Mountain, 09000288, LISTED, 5/06/09

Davie County

Barnhardt, George E., House, 291 Hartley Rd., Mocksville vicinity, 09000289, LISTED, 5/04/09

VIRGINIA

James City County

Norge Train Depot, 7770 Croaker Rd., Williamsburg vicinity, 08000256, LISTED, 5/05/09

[FR Doc. E9-15227 Filed 6-25-09; 8:45 am]

BILLING CODE P